DEPARTMENT OF DEFENSE

Office of the Secretary of Defense

[DOD-2007-OS-0035]

Privacy Act of 1974; Systems of Records

AGENCY: Defense Threat Reduction Agency.

ACTION: Notice to alter a system of records.

SUMMARY: The Defense Threat Reduction Agency proposes to alter a system of records notice to its inventory of record systems subject to the Privacy Act of 1974 (5 U.S.C. 552a), as amended.

DATES: This action will be effective without further notice on May 18, 2007 unless comments are received that would result in a contrary determination.

ADDRESSES: Send comments to the Freedom of Information and Privacy Office, Defense Threat Reduction Agency, 8725 John J. Kingman Road, Fort Belvoir, VA 22060-6201.

FOR FURTHER INFORMATION CONTACT: Ms. Brenda Carter at (703) 767-1771.

SUPPLEMENTARY INFORMATION: The Defense Threat Reduction Agency notices for systems of records subject to the Privacy Act of 1974 (5 U.S.C. 552a), as amended, have been published in the Federal Register and are available from the address above.

The proposed system report, as required by 5 U.S.C. 552a(r) of the Privacy Act of 1974, as amended, was submitted on April 6, 2007, to the House Committee on Oversight and Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: April 11, 2007.
C.R. Choate,
Alternate OSD Federal Register Liaison Officer, Department of Defense.

HDTRA 019

System Name:

Treaty Inspection Information Management System (November 9, 2006, 71 FR 65871).

Changes:

System name:

Delete entry and replace with “Arms Control Treaty Inspection Management System.”

* * * * *

Categories of records in the system:

Add to entry “passport numbers”.

* * * * *

Authority for maintenance of the system:

Delete from entry “5 U.S.C. 4103, Establishment of training programs; Pub. L. 89-554 (September 6, 1966).”

Add to entry “National Security Directive 41, Organizing to Manage On-site Inspection for Arms Control”.

Purpose(s):

Delete “Treaty Monitoring and Inspection” and replace with “Arms Control.”

* * * * *

Retrievability:

Add to entry “passport numbers.”

* * * * *

System manager(s) and address:

Delete “TIIMS System Administrator” replace with “Arms Control Treaty Inspection Management System Administrator.”

Notification procedure:

Delete “TIIMS System Administrator” replace with “Arms Control Treaty Inspection Management System Administrator.”

Record access procedures:

Delete “TIIMS System Administrator” replace with “Arms Control Treaty Inspection Management System Administrator.”

Contesting record procedures:

Delete “TIIMS System Administrator” replace with “Arms Control Treaty Inspection Management System Administrator.”

* * * * *

HDTRA 019

System name:

Arms Control Treaty Inspection Management System.

System location:

Defense Threat Reduction Agency, Room 4528, HQ Complex, 8725 John J. Kingman Road, VA 22060-6201.

Categories of individuals covered by the system:

Individuals affiliated with the Defense Threat Reduction Agency, either by military assignment, civilian employment, or contractual support agreement. Individuals that are weapons inspectors, linguists, mission schedulers/planners, personnel assistants/specialists, portal rotation specialists, operation technicians, passport managers, clerical staff, and database management specialists.

Categories of records in the system:

Individual's name, Social Security Number(SSN), date of birth, city/state/country of birth, education, gender, race, civilian or military member, military rank, security clearance, occupational category, job organization and location, emergency locator information, and passport numbers.

Authority for maintenance of the system:

5 U.S.C. 301, Departmental Regulations; 5 U.S.C. 302, Delegation of Authority; National Security Directive 41, Organizing to Manage On-site Inspection for Arms Control; and E.O. 9397 (SSN).

Purpose(s):

To manage the Arms Control activities, including personnel resources, manpower/billet management, passport status, mission scheduling and planning, inspection team composition, inspector and transport list management, inspector training, and inspection notification generation.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD 'Blanket Routine Uses' set forth at the beginning of DTRA's compilation of systems of records notices apply to this system.

Policies and practices of storing, retrieving, accessing, retaining, and disposing of records in the system:

Storage:

Paper records in file folders and electronic storage media.

Retrievability:

Records may be retrieved by name and/or Social Security Number (SSN), title, personnel type, and passport numbers.

Safeguards:

Records are maintained in areas accessible only to Defense Threat Reduction Agency personnel who must use the records to perform their duties. The computer files are password protected with access restricted to authorized users. Records are secured in locked or guarded buildings, locked offices, or locked cabinets during non-duty hours. Records are stored in a computer system with extensive intrusion safeguards.

Retention and disposal:

Records are maintained for as long as the individual is assigned to Defense Threat Reduction Agency (DTRA). Upon departure from DTRA, records concerning that individual are removed from the active file and retained in an inactive file for two years and then deleted.

System manager(s) and address:

Arms Control Treaty Inspection Management System Administrator, Operations Enterprise, Operations Branch, Defense Threat Reduction Agency, Room 4528, HQ Complex, 8725 John J. Kingman Rd., Ft. Belvoir, VA 22060-6201.

Notification procedure:

Individuals seeking to determine whether information about themselves is contained in this system of records should address written inquiries to Arms Control Treaty Inspection Management System Administrator, Operations Enterprise, Operations Branch, Defense Threat Reduction Agency, Room 4528, HQ Complex, 8725 John J. Kingman Road, Ft. Belvoir, VA 22060-6201.

Requests should contain individual's full name and Social Security Number (SSN).

Record access procedures:

Individuals seeking access to information about themselves contained in this system of records should address written inquiries to Arms Control Treaty Inspection Management System Administrator, Operations Enterprise, Operations Branch, Defense Threat Reduction Agency, Room 4528, HQ Complex, 8725 John J. Kingman Road, Ft. Belvoir, VA 22060-6201.

Requests should contain individual's full name and Social Security Number (SSN).

Contesting record procedures:

The DTRA rules for accessing records and for contesting contents and appealing initial agency determinations are published in DTRA Instruction 5400.11; 32 CFR part 318; or may be obtained from the Arms Control Treaty Inspection Management System Administrator, Operations Enterprise, Operations Branch, Defense Threat Reduction Agency, Room 4528, HQ Complex, 8725 John J. Kingman Road, Ft. Belvoir, VA 22060-6201.

Record source categories:

Individual, DTR Officials, and assignment personnel.

Exemptions claimed for the system:

None.

[FR Doc. E7-7357 Filed 4-17-07; 8:45 am]

BILLING CODE 5001-06-P